DEPARTMENT OF HEALTH AND HUMAN SERVICES

Centers for Disease Control and Prevention

Prospective Grant of Exclusive License: Family Healthware

AGENCY: Technology Transfer Office, Centers for Disease Control and Prevention (CDC), Department of Health and Human Services.

ACTION: Notice.

SUMMARY: This is a notice in accordance with 35 U.S.C. 209(e) and 37 CFR 404.7(a)(1)(i) that the Centers for Disease Control and Prevention (CDC), Technology Transfer Office, Department of Health and Human Services (DHHS), is contemplating the grant of a worldwide, exclusive license to practice the inventions embodied in the patent application referred to below to Sanitas Inc., having a place of business in La Jolla, California. The patent rights in these inventions have been assigned to the government of the United States of America. The patent application(s) to be licensed are:

US Patent Application 11/815,445 entitled “Personal Assessment Including Familial Risk Analysis for Personalized Disease Prevention Plan,” filed 5/20/2008, claiming priority to Provisional Patent Application No. 60/650,076, filed 2/3/2005. CDC Technology ID No. I-004-04.

Status: Patent Application Pending.

Priority Date: 2/3/2005.

Issue Date: N/A.

The prospective exclusive license will be royalty-bearing and will comply with the terms and conditions of 35 U.S.C. 209 and 37 CFR 404.7.

Technology: This technology provides a computer-based familial risk assessment tool. It involves a three-step process which uses the disease history of a person's first and second-degree relatives to assess the risk of common diseases of adulthood in order to influence early disease detection and prevention strategies.

ADDRESSES: Requests for a copy of this patent application, inquiries, comments, and other materials relating to the contemplated license should be directed to Donald Prather, J.D., Ph.D., Technology Licensing and Marketing Specialist, Technology Transfer Office, Centers for Disease Control and Prevention (CDC), 4770 Buford Highway, Mailstop K-79, Atlanta, GA 30341, Telephone: (770) 488-8612; Facsimile: (770) 488-8615. Applications for a license filed in response to this notice will be treated as objections to the grant of the contemplated license. Only written comments and/or applications for a license which are received by CDC within thirty days of this notice will be considered. Comments and objections submitted in response to this notice will not be made available for public inspection, and, to the extent permitted by law, will not be released under the Freedom of Information Act, 5 U.S.C. 552.

Dated: March 27, 2012.
Tanja Popovic,
Deputy Associate Director for Science Centers for Disease Control and Prevention.

[FR Doc. 2012-8291 Filed 4-5-12; 8:45 am]

BILLING CODE 4163-18-P